FEDERAL COMMUNICATIONS COMMISSION

47 CFR Parts 2 and 5

[ET Docket No. 10-236 and 06-155; FCC 13-15]

Radio Experimentation and Market Trials-Streamlining Rules

AGENCY: Federal Communications Commission.

ACTION: Correcting amendment.

SUMMARY: On April 29, 2013, the Commission released a Report and Order, “Radio Experimentation and Market Trials-Streamlining Rules.” This document contains corrections to the final regulations that appeared in the Federal Register on April 29, 2013 (78 FR 25138).

DATES: Effective August 18, 2014.

FOR FURTHER INFORMATION CONTACT: Rodney Small, Office of Engineering and Technology, (202) 418-2452 or email Rodney.Small@fcc.gov.

SUPPLEMENTARY INFORMATION:

Background

The final regulations that are the subject of this correction relates to “Radio Experimentation and Market Trials-Streamlining Rules” under §§ 2.803, 2.805(a)(3), 5.302 and 5.303 of the rules.

Need for Correction

As published, the amendatory instructions in the final regulations contain errors, which may prove to be misleading and need immediate correction.

List of Subjects in 47 CFR Parts 2 and 5

Communications equipment, Radio, Reporting and recordkeeping requirements.

Accordingly, 47 CFR parts 2 and 5 is corrected by making the following correcting amendments:

PART 2—FREQUENCY ALLOCATIONS AND RADIO TREATY MATTERS; GENERAL RULES AND REGULATIONS

1. The authority citation for part 2 continues to read as follows:

Authority: 47 U.S.C. 154, 302a, 303, and 336, unless otherwise noted.

2. Section 2.803 is amended by revising the section heading to read as follows:

§ 2.803 Marketing of radio frequency devices prior to equipment authorization.

3. Section 2.805 is amended by revising the section heading to read as follows:

§ 2.805 Operation of radio frequency devices prior to equipment authorization.

PART 5—EXPERIMENTAL RADIO SERVICE

4. The authority citation for part 5 continues to read as follows:

Authority: Secs. 4, 302, 303, 307, 336, 48 Stat. 1066, 1082, as amended; 47 U.S.C., 154, 302, 303, 307, 336. Interpret or apply sec. 301, 48 Stat. 1081, as amended; 47 U.S.C. 301.

§ 5.3012 [AMENDED]

5. Section 5.302 is amended by replacing the word “their” with the word “its” at the end of the first sentence in the introductory text to read as “its end product”.

6. Section 5.303 is revised to read as follows:

§ 5.303 Frequencies.

Licensees may operate in any frequency band, except for the following:

(a) Frequency bands at or below 38.6 GHz that are designated as restricted in § 15.205(a) of this chapter; and

(b) Frequency bands above 38.6 GHz that are listed in footnote US246 of the Table of Frequency Allocations in § 2.106 of this chapter.

Federal Communications Commission.
Marlene H. Dortch,
Secretary.

[FR Doc. 2014-19293 Filed 8-15-14; 8:45 am]

BILLING CODE 6712-01-P